DEPARTMENT OF TRANSPORTATION

Federal Highway Administration

Notice of Final Federal Agency Actions on Proposed Highway in Virginia

AGENCY: Federal Highway Administration (FHWA), DOT.

ACTION: Notice of Limitation on Claims for Judicial Review of Actions by FHWA.

SUMMARY: This notice announces actions taken by the FHWA that are final within the meaning of 23 U.S.C. 139(1)(1). The actions relate to a proposed highway project on new location, Route 460, between the Route 58 Bypass in Suffolk and Interstate 295 in Prince George County, in the City of Suffolk, Isle of Wight County, Town of Waverly, Southampton County, Sussex County, and Prince George County, State of Virginia. Those actions grant approvals for the project.

DATES: By this notice, the FHWA is advising the public of final agency actions subject to 23 U.S.C. 139(1)(1). A claim seeking judicial review of the Federal agency actions on the highway project will be barred unless the claim is filed on or before April 21, 2009. If the Federal law that authorizes judicial review of a claim provides a time period of less than 180 days for filing such claim, then that shorter time period still applies.

FOR FURTHER INFORMATION CONTACT: Mr. Edward S. Sundra, Planning and Environment Program Manager, Federal Highway Administration, 400 North 8th Street, Suite 750, Richmond, Virginia 23219; telephone: (804) 775-3353; e-mail: Ed.Sundra@dot.gov. The FHWA Virginia Division Office's normal business hours are 7 a.m. to 4:30 p.m. (eastern time). You may also contact Mr. Chris G. Collins, Project Studies Manager, Virginia Department of Transportation, 1401 East Broad Street, Richmond, Virginia 23219; telephone: (804) 225-3608, e-mail: CG.Collins@VDOT.Virginia.gov.

SUPPLEMENTARY INFORMATION: Notice is hereby given that the FHWA has taken final agency actions by issuing approvals for the following highway project in the State of Virginia: Route 460, from the Route 58 Bypass in Suffolk to Interstate 295 in Prince George County, in the City of Suffolk, Isle of Wight County, Town of Waverly, Southampton County, Sussex County, and Prince George County. The project will be approximately 88.5 km (55 mi) long and is proposed as a limited access principal arterial roadway on new location. The typical section consists of a four-lane, divided highway with two twelve-foot lanes in each direction, a 40-foot depressed median, and paved shoulders. Seven interchanges are proposed along the project at the following secondary roads to provide access to communities in the study area: Routes 258, 616, 620, 40, 602, 625, and 156. The actions by the Federal agencies, and the laws under which such actions were taken, are described in the Final Environmental Impact Statement (FEIS) for the project, approved on June 10, 2008, in the FHWA Record of Decision (ROD) issued on September 12, 2008, and in other documents in the FHWA administrative record. The FEIS, ROD, and other documents in the FHWA administrative record file are available by contacting the FHWA or the Virginia Department of Transportation at the addresses provided above. The FHWA FEIS can be viewed and downloaded from the project Web site at: http://www.virginiadot.org/projects/hamptonroads/route_460_location_study.asp.

This notice applies to all FHWA decisions and approvals as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303]; Landscaping and Scenic Enhancement (Wildflowers), 23 U.S.C. 319.

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(1)(1).

Issued on: October 8, 2008.
Edward Sundra,
Planning and Environment Program Manager, Richmond, Virginia.

[FR Doc. E8-25161 Filed 10-22-08; 8:45 am]

BILLING CODE 4910-RY-M